DEPARTMENT OF ENERGY

Federal Energy Regulatory Commission

Combined Notice of Filings

Take notice that the Commission has received the following Natural Gas Pipeline Rate and Refund Report filings:

Docket Number: PR20-12-000.

Applicants: Rocky Mountain Natural Gas LLC.

Description: Tariff filing per 284.123(b),(e)/: RMNG Revised SOC Filing to be effective 11/1/2019.

Filed Date: 11/21/19.

Accession Number: 201911215163.

Comments/Protests Due: 5 p.m. ET 12/12/19.

Docket Numbers: RP19-1291-003.

Applicants: Paiute Pipeline Company.

Description: Compliance filing 2019 Rate Case—Motion Rate Filing to be effective 12/1/2019.

Filed Date: 11/26/19.

Accession Number: 20191126-5100.

Comments Due: 5 p.m. ET 12/9/19.

Docket Numbers: RP19-257-009.

Applicants: Southwest Gas Storage Company.

Description: Compliance filing RP19-257-000 Settlement Compliance Filing to be effective 12/1/2019.

Filed Date: 11/26/19.

Accession Number: 20191126-5085.

Comments Due: 5 p.m. ET 12/9/19.

Docket Numbers: RP19-370-001.

Applicants: Gas Transmission Northwest LLC.

Description: Compliance filing Compliance to RP15-904-001 (Implement 501-G Settlement) Phase II Rates to be effective 1/1/2020.

Filed Date: 11/26/19.

Accession Number: 20191126-5005.

Comments Due: 5 p.m. ET 12/9/19.

Docket Numbers: RP19-414-002.

Applicants: Northern Border Pipeline Company.

Description: Compliance filing Amended Settlement Compliance Period 3 Eff. Jan 2020 to be effective 1/1/2020.

Filed Date: 11/26/19.

Accession Number: 20191126-5057.

Comments Due: 5 p.m. ET 12/9/19.

Docket Numbers: RP20-257-000.

Applicants: Algonquin Gas Transmission, LLC.

Description: § 4(d) Rate Filing: Negotiated Rate—Boston Gas 511109 to Plymouth Rock 800706 to be effective 12/1/2019.

Filed Date: 11/26/19.

Accession Number: 20191126-5004.

Comments Due: 5 p.m. ET 12/9/19.

Docket Numbers: RP20-258-000.

Applicants: Gas Transmission Northwest LLC.

Description: Annual Fuel Charge Adjustment of Gas Transmission Northwest LLC under RP20-258.

Filed Date: 11/26/19.

Accession Number: 20191126-5056.

Comments Due: 5 p.m. ET 12/9/19.

Docket Numbers: RP20-259-000.

Applicants: Kern River Gas Transmission Company.

Description: § 4(d) Rate Filing: 2020 Leap Year Rates to be effective 1/1/2020.

Filed Date: 11/26/19.

Accession Number: 20191126-5072.

Comments Due: 5 p.m. ET 12/9/19.

Docket Numbers: RP20-260-000.

Applicants: Kern River Gas Transmission Company.

Description: § 4(d) Rate Filing: 2019 Calpine Amendment to be effective 12/1/2019.

Filed Date: 11/26/19.

Accession Number: 20191126-5089.

Comments Due: 5 p.m. ET 12/9/19.

Docket Numbers: RP20-262-000.

Applicants: Natural Gas Pipeline Company of America.

Description: § 4(d) Rate Filing: New Negotiated Rate Agreements-Municipal Customers to be effective 12/1/2019.

Filed Date: 11/26/19.

Accession Number: 20191126-5092.

Comments Due: 5 p.m. ET 12/9/19.

Docket Numbers: RP20-263-000.

Applicants: Rover Pipeline LLC.

Description: § 4(d) Rate Filing: Summary of Negotiated Rate Capacity Release Agreements on 11-26-19 to be effective 12/1/2019.

Filed Date: 11/26/19.

Accession Number: 20191126-5105.

Comments Due: 5 p.m. ET 12/9/19.

Docket Numbers: RP20-264-000.

Applicants: Alliance Pipeline L.P.

Description: § 4(d) Rate Filing: Hess 2020 Tioga Usage Charge Filing to be effective 1/1/2020.

Filed Date: 11/26/19.

Accession Number: 20191126-5111.

Comments Due: 5 p.m. ET 12/9/19.

Docket Numbers: RP20-265-000.

Applicants: Cameron Interstate Pipeline, LLC.

Description: Compliance filing CIP Request for Tariff Waiver and Request for Shortened Comment Period.

Filed Date: 11/26/19.

Accession Number: 20191126-5137.

Comments Due: 5 p.m. ET 12/3/19.

Docket Numbers: RP20-266-000.

Applicants: Dauphin Island Gathering Partners.

Description: § 4(d) Rate Filing: Negotiated Rate Filing—Chevron 11-26-2019 to be effective 12/1/2019.

Filed Date: 11/26/19.

Accession Number: 20191126-5144.

Comments Due: 5 p.m. ET 12/9/19.

Docket Numbers: RP20-267-000.

Applicants: Algonquin Gas Transmission, LLC.

Description: § 4(d) Rate Filing: Negotiated Rate—Boston Gas 510807 release to UGI 800743 eff 12-1-19 to be effective 12/1/2019.

Filed Date: 11/26/19.

Accession Number: 20191126-5158.

Comments Due: 5 p.m. ET 12/9/19.

Docket Numbers: RP20-268-000.

Applicants: Algonquin Gas Transmission, LLC.

Description: § 4(d) Rate Filing: Negotiated Rate—Boston Gas 510798 releases eff 12-1-19 to be effective 12/1/2019.

Filed Date: 11/26/19.

Accession Number: 20191126-5161.

Comments Due: 5 p.m. ET 12/9/19.

Docket Numbers: RP20-269-000.

Applicants: LA Storage, LLC.

Description: § 4(d) Rate Filing: Filing of Negotiated Rate, Conforming IW Agreement (BP) to be effective 12/1/2019.

Filed Date: 11/26/19.

Accession Number: 20191126-5185.

Comments Due: 5 p.m. ET 12/9/19.

Docket Numbers: RP20-270-000.

Applicants: ANR Pipeline Company.

Description: § 4(d) Rate Filing: Prepayments to be effective 12/27/2019.

Filed Date: 11/26/19.

Accession Number: 20191126-5192.

Comments Due: 5 p.m. ET 12/9/19.

Docket Numbers: RP20-271-000.

Applicants: Texas Eastern Transmission, LP.

Description: § 4(d) Rate Filing: Negotiated Rate—MC Global 911524 releases eff 12-1-19 to be effective 12/1/2019.

Filed Date: 11/26/19.

Accession Number: 20191126-5252.

Comments Due: 5 p.m. ET 12/9/19.

Docket Numbers: RP20-272-000.

Applicants: Equitrans, L.P.

Description: Compliance filing Copley Certificated Gathering Facilities Abandonment—Compliance Filing to be effective 12/31/2019.

Filed Date: 11/26/19.

Accession Number: 20191126-5270.

Comments Due: 5 p.m. ET 12/9/19.

Docket Numbers: RP20-273-000.

Applicants: Equitrans, L.P.

Description: Tariff Cancellation: Terminate Negotiated Rate Copley Gathering Agreement to be effective 12/31/2019.

Filed Date: 11/26/19.

Accession Number: 20191126-5274.

Comments Due: 5 p.m. ET 12/9/19.

Docket Numbers: RP20-274-000.

Applicants: Viking Gas Transmission Company.

Description: § 4(d) Rate Filing: Part 5.0 Correction Filing to be effective 11/1/2019.

Filed Date: 11/27/19.

Accession Number: 20191127-5000.

Comments Due: 5 p.m. ET 12/3/19.

Docket Numbers: RP20-275-000.

Applicants: Transcontinental Gas Pipe Line Company, LLC.

Description: § 4(d) Rate Filing: Rate Schedule S-2 Tracker Filing (ASA/PCB) eff 12/1/2019 to be effective 12/1/2019.

Filed Date: 11/27/19.

Accession Number: 20191127-5001.

Comments Due: 5 p.m. ET 12/9/19.

Docket Numbers: RP20-276-000.

Applicants: Texas Eastern Transmission, LP.

Description: § 4(d) Rate Filing: TETLP—Macquarie k911714 Negotiated Rate eff 12-1-19 to be effective 12/1/2019.

Filed Date: 11/27/19.

Accession Number: 20191127-5003.

Comments Due: 5 p.m. ET 12/9/19.

Docket Numbers: RP20-277-000.

Applicants: Natural Gas Pipeline Company of America.

Description: § 4(d) Rate Filing: Amendment to a Negotiated Rate Agreement-Macquarie Energy LLC to be effective 12/1/2019.

Filed Date: 11/27/19.

Accession Number: 20191127-5019.

Comments Due: 5 p.m. ET 12/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2019.
Nathaniel J. Davis, Sr.,
Deputy Secretary.

[FR Doc. 2019-26199 Filed 12-3-19; 8:45 am]

BILLING CODE 6717-01-P